DEPARTMENT OF ENERGY

Federal Energy Regulatory Commission

[Docket No. ER00-2082-000]

Wisconsin Electric Power Company; Notice of Filing

April 10, 2000.

Take notice that on April 3, 2000, Wisconsin Electric Power Company (Wisconsin Electric) tendered for filing a short-term firm Transmission Service Agreement and a non-firm Transmission Service Agreement between itself and The Detroit Edison Company (DTE). The Transmission Service Agreements allow DTE to receive transmission services under Wisconsin Energy Corporation Operating Companies' FERC Electric Tariff, Volume No. 1.

Copies of the filing have been served on DTE, the Public Service Commission of Wisconsin and the Michigan Public Service Commission.

Any person desiring to be heard or to protest such filing should file a motion to intervene or protest with the Federal Energy Regulatory Commission, 888 First Street, N.W., Washington, D.C. 20426, in accordance with Rules 211 and 214 of the Commission's Rules of Practice and Procedure (18 CFR 385.211 and 385.214). All such motions and protests should be filed on or before April 24, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-9592 Filed 4-17-00; 8:45 am]

BILLING CODE 6717-01-M